ENVIRONMENTAL PROTECTION AGENCY

[FRL OP-OFA-051]

Environmental Impact Statements; Notice of Availability

Responsible Agency: Office of Federal Activities, General Information 202-564-5632 or https://www.epa.gov/nepa.

Weekly receipt of Environmental Impact Statements (EIS)

Filed December 23, 2022 10 a.m. EST Through December 30, 2022 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20230000, Draft Supplement, USFS, AK, Mendenhall Glacier Visitor Facility Improvements, Comment Period Ends: 02/21/2023, Contact: Monique Nelson 907-209-4090.

EIS No. 20230001, Draft, TxDOT, TX, I-35 Capital Express Central Project, Comment Period Ends: 03/07/2023, Contact: Doug Booher 512-416-2734.

Dated: December 30, 2022.
Cindy S. Barger,
Director, NEPA Compliance Division, Office of Federal Activities.

[FR Doc. 2023-00019 Filed 1-5-23; 8:45 am]

BILLING CODE 6560-50-P